DEPARTMENT OF THE INTERIOR

Fish and Wildlife Service

50 CFR Part 32

[Docket No. FWS-HQ-NWRS-2016-0007; FXRS12650900000-167-FF09R26000]

RIN 1018-BB31

2016-2017 Refuge-Specific Hunting and Sport Fishing Regulations

Correction

In rule document 2016-23190 appearing on pages 68874-68921 in the issue of Tuesday, October 4, 2016, make the following correction:

§ 32.25 [Corrected]

On page 68893, beginning in the first column, in the ninth line, amendatory instruction 7. should read as follows.

7. Amend § 32.25 by:

a. Revising paragraphs A, B, and C under the entry Alamosa National Wildlife Refuge;

b. Adding, in alphabetical order, an entry for Baca National Wildlife Refuge; and

c. Revising paragraphs A, B, and C under the entry Monte Vista National Refuge.

The addition and revisions read as follows:

§ 32.25 Colorado.

* * * * *

Alamosa National Wildlife Refuge

A. Migratory Game Bird Hunting. We allow hunting of geese, ducks, coots, snipe, Eurasian collared-doves, and mourning doves on designated areas of the refuge in accordance with State and Federal regulations, and subject to the following conditions:

1. We allow Eurasian collared-dove hunting only during the mourning dove season.

2. You may possess only approved nontoxic shot for hunting (see § 32.2(k)).

3. The only acceptable methods of take are shotguns, hand-held bows, and hawking/falconry.

4. Persons possessing, transporting, or carrying firearms on national wildlife refuges must comply with all provisions of State and local law. Persons may only use (discharge) firearms in accordance with refuge regulations (see § 27.42 of this chapter and specific refuge regulations in this part 32).

B. Upland Game Hunting. We allow hunting of cottontail rabbit, and black-tailed and whitetailed jackrabbit, on designated areas of the refuge in accordance with State regulations and subject to the following conditions:

1. Conditions A2, A3 and A4 apply.

C. Big Game Hunting. We allow hunting of elk on designated areas of the refuge in accordance with State regulations and subject to the following conditions:

1. Condition A4 applies.

2. You must possess a valid State license and a refuge-specific permit from the State, or a valid State license issued specifically for the refuge, to hunt elk. State license selection will be made via the Colorado Parks and Wildlife hunt selection process.

* * * * *

Baca National Wildlife Refuge

A. Migratory Game Bird Hunting. We allow hunting of Eurasian collared-doves and mourning doves only in designated areas of the refuge in accordance with State and Federal regulations, and subject to the following conditions:

1. We allow Eurasian collared-dove hunting only during the mourning dove season.

2. You may possess only approved nontoxic shot for hunting (see § 32.2(k)).

3. The only acceptable methods of take are shotguns, hand-held bows, and hawking/falconry.

4. Persons possessing, transporting, or carrying firearms on national wildlife refuges must comply with all provisions of State and local law. Persons may only use (discharge) firearms in accordance with refuge regulations (see § 27.42 of this chapter and specific refuge regulations in this part 32).

B. Upland Game Hunting. We allow hunting of cottontail rabbit, and black-tailed and whitetailed jackrabbit, on designated areas of the refuge in accordance with State regulations and subject to the following conditions:

1. Conditions A2 and A4 apply.

2. We prohibit handguns for hunting.

3. Shotguns, rifles firing rim-fire cartridges less than .23 caliber, hand-held bows, pellet guns, slingshots, and hawking/falconry are the only acceptable methods of take.

C. Big Game Hunting. We allow hunting of elk on designated areas of the refuge in accordance with State regulations and subject to the following conditions:

1. Condition A4 applies.

2. You must possess a valid State license and a refuge-specific permit from the State, or a valid State license issued specifically for the refuge, to hunt elk. State license selection will be made via the Colorado Parks and Wildlife hunt selection process.

D. Sport Fishing. [Reserved]

* * * * *

Monte Vista National Wildlife Refuge

A. Migratory Game Bird Hunting. We allow hunting of geese, ducks, coots, snipe, Eurasian collared-doves, and mourning doves on designated areas of the refuge in accordance with State and Federal regulations, and subject to the following conditions:

1. We allow Eurasian collared-dove hunting only during the mourning dove season.

2. You may possess only approved nontoxic shot for hunting (see § 32.2(k)).

3. The only acceptable methods of take are shotguns, hand-held bows, and hawking/falconry.

4. Persons possessing, transporting, or carrying firearms on national wildlife refuges must comply with all provisions of State and local law. Persons may only use (discharge) firearms in accordance with refuge regulations (see § 27.42 of this chapter and specific refuge regulations in this part 32).

B. Upland Game Hunting. We allow hunting of cottontail rabbit, and black-tailed and whitetailed jackrabbit, on designated areas of the refuge in accordance with State regulations and subject to the following conditions:

1. Conditions A2, A3, and A4 apply.

C. Big Game Hunting. We allow hunting of elk on designated areas of the refuge in accordance with State regulations and subject to the following conditions:

1. Condition A4 applies.

2. You must possess a valid State license and a refuge-specific permit from the State, or a valid State license issued specifically for the refuge, to hunt elk. State license selection will be made via the Colorado Parks and Wildlife hunt selection process.

3. During firearms elk seasons, hunters must follow State law for use of hunter orange.

* * * * *

[FR Doc. C1-2016-23190 Filed 10-6-16; 8:45 am]

BILLING CODE 1301-00-D